DEPARTMENT OF AGRICULTURE

Animal and Plant Health Inspection Service

[Docket No. APHIS-2010-0044]

Notice of Request for Extension of Approval of an Information Collection; Blood and Tissue Collection at Slaughtering and Rendering Establishments

AGENCY: Animal and Plant Health Inspection Service, USDA.

ACTION: Extension of approval of an information collection; comment request.

SUMMARY: In accordance with the Paperwork Reduction Act of 1995, this notice announces the Animal and Plant Health Inspection Service’s intention to request an extension of approval of an information collection associated with regulations for blood and tissue collection at slaughtering and rendering establishments to enhance animal disease surveillance.

DATES: We will consider all comments that we receive on or before August 23, 2010.

ADDRESSES: You may submit comments by either of the following methods:

• Federal eRulemaking Portal: Go to (http://www.regulations.gov/fdmspublic/component/main?main=DocketDetail&d=APHIS-2010-0044) to submit or view comments and to view supporting and related materials available electronically.

• Postal Mail/Commercial Delivery: Please send one copy of your comment to Docket No. APHIS-2010-0044, Regulatory Analysis and Development, PPD, APHIS, Station 3A-03.8, 4700 River Road Unit 118, Riverdale, MD 20737-1238. Please state that your comment refers to Docket No. APHIS-2010-0044.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on regulations for blood and tissue collection at slaughtering and rendering establishments, contact Dr. Debra Cox, Senior Staff Veterinarian, Surveillance and Identification Programs, NCAHP, VS, APHIS, 4700 River Road Unit 200, Riverdale MD 20737; (301) 734-6954. For copies of more detailed information on the information collection, contact Mrs. Celeste Sickles, APHIS’ Information Collection Coordinator, at (301) 851-2908.

SUPPLEMENTARY INFORMATION:

Title: Blood and Tissue Collection at Slaughtering and Rendering Establishments.

OMB Number: 0579-0212.

Type of Request: Extension of approval of an information collection.

Abstract: Under the Animal Health Protection Act (7 U.S.C. 8301 et seq.), the Animal and Plant Health Inspection Service (APHIS), U.S. Department of Agriculture, is authorized to prevent the interstate spread of livestock diseases and for eradicating such diseases from the United States when feasible. In connection with this mission, the Veterinary Services (VS) program, APHIS, conducts animal disease surveillance programs, including diagnostic testing.

The regulations in 9 CFR, subchapter C, part 71, “General Provisions,” provide for the collection of blood and tissue samples from livestock (horses, cattle, bison, captive cervids, sheep and goats, swine, and other farmed animals) and poultry at slaughter. Persons moving livestock and poultry interstate for slaughter may only move the animals to slaughtering or rendering establishments that have been listed by the Administrator of APHIS. Federal personnel, in conjunction with establishment personnel, are required to complete a listing agreement and a facility inspection report (VS Form 10-5). At APHIS’ discretion, slaughtering or rendering establishment personnel will collect blood and tissue samples to assess the prevalence of disease and to identify sources of disease. The test-at-slaughter program necessitates the use of specimen submission and supplemental forms (VS Forms 10-4/10-4A). If APHIS denies or withdraws an establishment’s listing, the establishment may appeal the denial or withdrawal in writing to APHIS.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.250395 hours per response.

Respondents: Slaughtering and rendering establishment personnel.

Estimated annual number of respondents: 66.

Estimated annual number of responses per respondent: 162.8333.

Estimated annual number of responses: 10,747.

Estimated total annual burden on respondents: 2,691 hours. (Due to averaging, the total annual burden hours may not equal the product of the annual number of responses multiplied by the reporting burden per response.)

All responses to this notice will be summarized and included in the request for OMB approval. All comments will also become a matter of public record.

Done in Washington, DC, this 17th day of June 2010.

Kevin Shea
Acting Administrator, Animal and Plant Health Inspection Service.

[FR Doc. 2010-15301 Filed 6-23-10: 8:45 am]

BILLING CODE 3410-34-S